DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 17, 2008. If you anticipate difficulty in submitting comments within that period, contact the person listed in ADDRESSES as soon as possible.

ADDRESSES: Written comments may be sent to Michaela Martin, Oak Ridge National Laboratory, P.O. Box 2008, MS-6070, Oak Ridge, TN 37831-6070 or by fax at 865-241-4152, or by e-mail at martinma@ornl.gov.

FOR FURTHER INFORMATION CONTACT: Requests for additional information or copies of the information collection instrument and instructions should be directed to Michaela Martin using the contact information listed above.

SUPPLEMENTARY INFORMATION: This information collection request contains: (1) OMB No.: New; (2) Package Title: Save Energy Now Voluntary Pledge Report; (3) Type of Review: New; (4) Purpose: The Department of Energy is authorized to enter into voluntary agreements with U.S. industry under section 106 of the Energy Policy Act of 2005 (42 U.S.C. 15811). Data will be collected from industry pledge participants, annually, on progress made towards the reduction of energy intensity goals established by the voluntary agreements. The data collected will be used to evaluate the success of the voluntary agreements and to report results to Congress; (5) Respondents: 240; (6) Estimated Number of Burden Hours: 720.

Statutory Authority: Pub. L. No. 109-58, 42 U.S.C. 15811.

Issued in Washington, DC, on September 8, 2008.
John F. Mizroch,
Acting Assistant Secretary, Energy Efficiency and Renewable Energy.

[FR Doc. E8-21570 Filed 9-15-08; 8:45 am]

BILLING CODE 6450-01-P